NUCLEAR REGULATORY COMMISSION

The Ohio State University Notice of Acceptance for Docketing of the Application and Notice of Opportunity for Hearing Regarding Renewal of The Ohio State University Research Reactor Facility License No. R-75 for an Additional 20-year Period; Extension of Comment Period

AGENCY: United States Nuclear Regulatory Commission.

ACTION: Extension of comment period.

SUMMARY: On August 2, 2006 (71 FR 43818), the U.S. Nuclear Regulatory Commission (NRC) published for public comment a Notice of Acceptance for Docketing of the Application and Notice of Opportunity for Hearing Regarding Renewal of the Ohio State University Research Reactor. An additional 30 days has been added to this Federal Register Notice. The date for an applicant to file a request for hearing and a petition for leave to intervene has been extended to October 2, 2006.

DATES: The comment period has been extended and now expires on October 2, 2006.

ADDRESSES: Mail Written comments to: the Office of the Secretary of the Commission, U.S. Nuclear Regulatory Commission, Washington, DC 20555-0001. Attn: Rulemaking and Adjudications Staff.

Hand delivered comments should also be addressed to: the Office of the Secretary, Sixteenth Floor, One White Flint North, 11555 Rockville Pike, Rockville, Maryland, 20852, Attn: Rulemaking and Adjudications Staff. This should be delivered between 7:30am and 4:15pm Federal Workdays.

Certain Documents relating to this renewal may be examined at the NRC Public Document Room, 11555 Rockville Pike, Room O1F21, Rockville, Maryland, 20852. For more information, contact the Public Document Room Reference Staff at 1-800-397-4209, or at 301-415-4737, or by e-mail at PDR@NRC.GOV.

FOR FURTHER INFORMATION CONTACT: Daniel Hughes, U.S. Nuclear Regulatory Commission, Washington, DC 20555-0001, telephone 301-415-1631, e-mail DEH3@NRC.GOV.

Dated at Rockville, Maryland, this 23rd day of August 2006.
For the Nuclear Regulatory Commission.
Brian E. Thomas,
Branch Chief, Research and Test Reactors Branch, Division of Policy and Rulemaking, Office of Nuclear Reactor Regulation.

[FR Doc. E6-14512 Filed 8-31-06; 8:45 am]

BILLING CODE 7590-01-P